DEPARTMENT OF COMMERCE

National Oceanic and Atmospheric Administration

RIN 0648-XC195

North Pacific Fishery Management Council; Public Meeting

AGENCY: National Marine Fisheries Service (NMFS), National Oceanic and Atmospheric Administration (NOAA), Commerce.

ACTION: Notice of a public meeting.

SUMMARY: The North Pacific Fishery Management Council's (NPFMC) Crab Plan Team (CPT) will meet in Seattle, WA.

DATES: The meeting will be held September 18-21, 2012, from 9 a.m. to 5 p.m.

ADDRESSES: The meeting will be held at the Alaska Fishery Science Center, 7600 Sand Point Way NE., Building 4, Seattle, WA.

Council address: North Pacific Fishery Management Council, 605 W. 4th Avenue, Suite 306, Anchorage, AK 99501-2252.

FOR FURTHER INFORMATION CONTACT: Diana Stram; telephone: (907) 271-2809.

SUPPLEMENTARY INFORMATION: The Plan Team meeting agenda includes: Final stock assessments and harvest specifications for Eastern Bering Sea (EBS) snow crab, Tanner crab, Saint Matthew blue king crab, Pribilof Islands blue king crab, Pribilof Islands red king crab and Bristol Bay red king crab. Additional discussions include model recommendations for Aleutian Islands golden king crab, Norton Sound red king crab, 2012 EBS survey results, reports from working groups on total catch accounting, recruitment and retrospective analyses, a review of the economic stock assessment fishery evaluation (SAFE) report and a discussion of plans for revising the use of Mature Male Biomass (MMB) in assessments with effective spawning biomass.

The Agenda is subject to change, and the latest version will be posted at http://www.fakr.noaa.gov.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to Gail Bendixen at (907) 271-2809 at least 7 working days prior to the meeting date.

Dated: August 28, 2012.
Tracey L. Thompson,
Acting Deputy Director, Office of Sustainable Fisheries, National Marine Fisheries Service.

[FR Doc. 2012-21559 Filed 8-30-12; 8:45 am]

BILLING CODE 3510-22-P